ENVIRONMENTAL PROTECTION AGENCY

[EPA-HQ-2007-0244; FRL-8345-5]

Notice of Receipt of Requests for Amendments to Delete Uses in Certain Pesticide Registrations

AGENCY: Environmental Protection Agency (EPA).

ACTION: Notice.

SUMMARY: In accordance with section 6(f)(1) of the Federal Insecticide, Fungicide, and Rodenticide Act (FIFRA), as amended, EPA is issuing a notice of receipt of request for amendments by registrants to delete uses in certain pesticide registrations. Section 6(f)(1) of FIFRA provides that a registrant of a pesticide product may at any time request that any of its pesticide registrations be amended to delete one or more uses. FIFRA further provides that, before acting on the request, EPA must publish a notice of receipt of any request in the Federal Register.

DATES: The deletions are effective by June 25, 2008 or January 28, 2008 for registrations for which the registrant requested a waiver of the 180-day comment period. The Agency will consider withdrawal requests postmarked no later than June 25, 2008 or January 28, 2008, whichever is applicable. Comments must be received on or before June 25, 2008 or January 28, 2008, for those registrations where the 180-day comment period has been waived.

Users of these products who desire continued use on crops or sites being deleted should contact the applicable registrant on or before June 25, 2008 or January 28, 2008 for registrations for which the registrant requested a waiver of the 180-day comment period.

ADDRESSES: Submit your comments, identified by docket identification (ID) number EPA-HQ-OPP-2007-0244, by one of the following methods:

• Mail: Office of Pesticide Programs (OPP) Regulatory Public Docket (7502P), Environmental Protection Agency, 1200 Pennsylvania Ave., NW., Washington, DC 20460-0001.

• Delivery: OPP Regulatory Public Docket (7502P), Environmental Protection Agency, Rm. S-4400, One Potomac Yard (South Bldg.), 2777 S. Crystal Dr., Arlington, VA. Deliveries are only accepted during the Docket's normal hours of operation (8:30 a.m. to 4 p.m., Monday through Friday, excluding legal holidays). Special arrangements should be made for deliveries of boxed information. The Docket Facility telephone number is (703) 305-5805.

FOR FURTHER INFORMATION CONTACT: Office of Pesticide Programs (OPP) Regulatory Public Docket (7502P), Environmental Protection Agency, 1200 Pennsylvania Ave., NW., Washington, DC 20460-0001; telephone number: (703) 305-6426; e-mail address: jamula.john@epa.gov.

SUPPLEMENTARY INFORMATION:

I. General Information

A. Does this Action Apply to Me?

This action is directed to the public in general. Although this action may be of particular interest to persons who produce or use pesticides, the Agency has not attempted to describe all the specific entities that may be affected by this action. If you have any questions regarding the information in this notice, consult the person listed under FOR FURTHER INFORMATION CONTACT.

B. How Can I Get Copies of this Document and Other Related Information?

1. Docket. EPA has established a docket for this action under docket identification (ID) number EPA-HQ-OPPT-2007-0244. Publicly available docket materials are available either in the electronic docket at http://www.regulations.gov, or, if only available in hard copy, at the Office of Pesticide Programs (OPP) Regulatory Public Docket in Rm. S-4400, One Potomac Yard (South Bldg.), 2777 S. Crystal Dr., Arlington, VA. The hours of operation of this Docket Facility are from 8:30 a.m. to 4 p.m., Monday through Friday, excluding legal holidays. The Docket Facility telephone number is (703) 305-5805.

2. Electronic access. You may access this Federal Register document electronically through the EPA Internet under the “Federal Register” listings at http://www.epa.gov/fedrgstr.

II. What Action is the Agency Taking?

This notice announces receipt by the Agency of applications from registrants to delete uses in certain pesticide registrations. These registrations are listed in Table 1 of this unit by registration number, product name, active ingredient, and specific uses deleted:

Table 1.—Registrations With Requests for Amendments to Delete Uses in Certain Pesticides
EPA Reg. No. | Product Name | Active Ingredient | Delete From Label
000100-00889 | Mertect 340-F Fungicide | Thiabendazole | Sugar Beet
000100-00999 | Paclobutrazol Technical | Paclobutrazol | Residential Turf Uses
000100-01014 | Paclobutrazol 2SC | Paclobutrazol | Residential Turf Uses
000464-00688 | UCARCIDE 25 Antimicrobial | Glutaraldehyde | Once-Through Cooling Water Systems and Macrofouling Control
000464-00690 | UCARCIDE 225 Antimicrobial | Glutaraldehyde | Once-Through Cooling Water Systems and Macrofouling Control
000464-00691 | UCARCIDE 250 Antimicrobial | Glutaraldehyde | Once-Through Cooling Water Systems and Macrofouling Control
000464-00692 | UCARCIDE 45 Antimicrobial | Glutaraldehyde | Once-Through Cooling Water Systems and Macrofouling Control
000464-00693 | UCARCIDE 15 Antimicrobial | Glutaraldehyde | Once-Through Cooling Water Systems and Macrofouling Control
000464-00700 | UCARCIDE 14 Antimicrobial | Glutaraldehyde | Once-Through Cooling Water Systems and Macrofouling Control
000464-00702 | UCARCIDE 42 Antimicrobial | Glutaraldehyde | Once-Through Cooling Water Systems and Macrofouling Control
000464-00704 | UCARCIDE 50 Antimicrobial | Glutaraldehyde | Once-Through Cooling Water Systems and Macrofouling Control
000464-00707 | AQUACAR 504 Water Treatment Microbiocide | Glutaraldehyde | Once-Through Cooling Water Systems and Macrofouling Control
000829-00286 | SA-50 Dithane M-45 | Mancozeb | Pachysandra
005481-00526 | Thimet 10-G | Phorate | Wheat
005481-00527 | Thimet 15-G | Phorate | Wheat
010163-00219 | MSR 50% Concentrate | Oxydemeton-methyl | Sorghum
010163 01-01-6322 | MSR Spray Concentrate | Oxydemeton-methyl | Sorghum
019713-00497 | Drexel Acephate 75SP | Acephate | Trees, Shrubs, Flowers
033560 03-35-6043 | Bareground 21 | Sodium Chlorate | Ditch Bank/Right of WAy
033560 03-35-6046 | Weed and Grass Killer | Sodium Chlorate | Ditch Bank/Right of WAy
033560 03-35-6047 | Ureabor | Sodium Chlorate | Ditch Bank/Right of WAy
033560 03-35-6048 | Monbor-Chlorate | Sodium Chlorate | Ditch Bank/Right of WAy
043410-00033 | CHEM-TEK 100 | Thiabendazole | Sugar Beet
043813-00016 | WOCOSEN 250 EC | Propiconzole | Apparel, Furnishings (except shower curtains), and carpet fibers
043813-00019 | WOCOSEN 100SL | Propiconzole | Apparel, Furnishings (except shower curtains), and carpet fibers
043813-00037 | WOCOSEN 500SL | Propiconzole | Apparel, Furnishings (except shower curtains), and carpet fibers
043813-00041 | WOCOSEN 150 EC | Propiconzole | Apparel, Furnishings (except shower curtains), and carpet fibers
043813-00043 | WOCOSEN 450 EC | Propiconzole | Apparel, Furnishings (except shower curtains), and carpet fibers
066330-00297 | Iprodione 4L AG | Iprodione | Rice
066330-00354 | Acephate 75 SP | Acephate | Cotton Seed Hopper Box Treatment
070506-00001 | Acephate 75 WSP | Acephate | Hopper Box Cotton Seed Treatment
070506-00002 | Acephate 90 WSP | Acephate | Hopper Box Cotton Seed Treatment
073220-00012 | Quali-Pro T-Nex AQ | Trinexapac-ethyl | Perennial Ryegrass Grown for Seed
083504-00001 | Fosetyl-Al Technical | Fosetyl-Al | Tobacco

Users of these products who desire continued use on crops or sites being deleted should contact the applicable registrant before June 25, 2008 or January 28, 2008 for registrations for which the registrant requested a waiver of the 180-day comment period to discuss withdrawal of the application for amendment. This time period will also permit interested members of the public to intercede with registrants prior to the Agency's approval of the deletion. A request to waive the 180-day comment period has been received for the following registrations: 829-286; 19713-497; 43410-33; 70506-1; 70506-2,

Table 2 of this unit includes the names and addresses of record for all registrants of the products listed in Table 1 of this unit, in sequence by EPA company number.

Table 2.—Registrants Requesting Amendments to Delete Uses in Certain Pesticide Products
EPA Company no. | Company Name and Address
000100 | Syngenta Crop Protction, Inc., ATTN: Regulatory Affairs, P.O. Box 18300, Greensboro, NC 27419.
000464 | The Dow Chemical Company, Agent for: Dow Chemical Co., 1500 East Lake Cook Road, Buffalo Grove, IL 60089.
000829 | Southern Agricultural Insecticides, Inc., P.O. Box 218, Palmetto, FL 34220.
005481 | AMVAC Chemical Corporation, d/b/a AMVAC, 4695 MaCarthur Court, Suite 1250, Newport Beach, CA 92660.
010163 | GOWAN Co., P.O. Box 5569, Yuma, AZ 85366.
019713 | Drexel Chemical Co., 1700 Channel Avenue, Memphis, TN 38106.
033560 | Pro Serve, Inc., 400 East Brooks Rd., Memphis, TN 38109.
043410 | Agri-Chem Consulting, Inc., 27536 CR 561, Tavares, FL 32778.
043813 | Janssen Pharmaceutica Inc., Plant Protection Division, 1125 Trenton-Harbourton Rd., Titusville, NJ 08560.
066330 | Arysta Lifescience North America Corporation, 15401 Weston Parkway, Suite 150, Cary, NC 27513.
070506 | United Phosphorus, Inc., 630 Freedom Business Center, Suite 402, King of Prussia, PA 19406.
073220 | Tab Regulatory Consulting, LLC, Agent for: Farmsaver.com, LLC, P.O. Box 805, Collierville, TN 38027.
083504 | Kerley Trading, Inc., P.O. Box 15627, Phoenix, AZ 85060.

III. What is the Agency's Authority for Taking this Action?

Section 6(f)(1) of FIFRA provides that a registrant of a pesticide product may at any time request that any of its pesticide registrations be amended to delete one or more uses. The Act further provides that, before acting on the request, EPA must publish a notice of receipt of any such request in the Federal Register. Thereafter, the Administrator may approve such a request.

IV. Procedures for Withdrawal of Request

Registrants who choose to withdraw a request for use deletion must submit the withdrawal in writing to John Jamula at the address listed under FOR FURTHER INFORMATION CONTACT. The Agency will consider written withdrawal requests postmarked no later than June 25, 2008.

V. Provisions for Disposition of Existing Stocks

The Agency has authorized the registrants to sell or distribute product under the previously approved labeling for a period of 18 months after approval of the revision, unless other restrictions have been imposed, as in special review actions.

List of Subjects

Environmental protection, Pesticides and pests.

Dated: December 18, 2007.
Kathryn Bouve,
Acting Director, Information Technology and Resources Management Division, Office of Pesticide Programs.

[FR Doc. E7-25285 Filed 12-27-07; 8:45 am]

BILLING CODE 6560-50-S